DEPARTMENT OF HEALTH AND HUMAN SERVICES

Centers for Disease Control and Prevention

[60Day-FY-1078; Docket No. CDC-0920-0088]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Public Health Associate Program (PHAP) Alumni Assessment.

DATES: CDC must receive written comments on or before December 11, 2017.

ADDRESSES: You may submit comments, identified by Docket No. CDC-2017-0088 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov.

Please note: Submit all Federal comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Public Health Associate Program (PHAP) Alumni Assessment (OMB Control No. 0920-1078, Exp. 08/31/2018)—Revision—Office for State, Tribal Local and Territorial Support (OSTLTS), Centers for Disease Control and Prevention (CDC).

Background and Brief Description

The Centers for Disease Control and Prevention (CDC) works to protect America from health, safety and security threats, both foreign and in the U.S. CDC strives to fulfill this mission, in part, through a competent and capable public health workforce. One mechanism to developing the public health workforce is through training programs like the Public Health Associate Program (PHAP).

The mission of PHAP is to train and provide experiential learning to early career professionals who contribute to the public health workforce. PHAP targets recent graduates with bachelors or masters degrees who are beginning a career in public health. Each year, CDC enrolls a new cohort of up to 200 associates in the program. Associates are CDC employees who complete two-year assignments in a host site (i.e., a state, tribal, local, or territorial health department or non-profit organization). Host sites design their associates' assignments to meet their agency's unique needs while also providing on-the-job experience that prepare associates for future careers in public health. At host sites, members of the public health workforce (referred to as “host site supervisors”) mentor associates. PHAP's goal is that alumni will seek employment within the public health system (i.e., federal, state, tribal, local, or territorial health agencies, or non-governmental organizations), focusing on public health, population health, or health care.

CDC began ongoing systematic PHAP evaluation efforts in 2014. Evaluation priorities focus on continuously learning about program processes and activities to improve the program's quality and documenting program outcomes to demonstrate impact and inform decision making about future program direction.

The purpose of this project is to collect information from two key stakeholder groups (host site supervisors and alumni) via two distinct surveys. The information collected will enable CDC to: (a) Learn about program processes and activities to improve the program's quality, and (b) document program outcomes to demonstrate impact and inform decision making about future program direction. CDC may publish the results of these surveys in peer-reviewed journals and/or in non-scientific publications such as practice reports and/or fact sheets. Project revisions include the following adjustments: (1) Expansion from one data collection instrument to two (both of which will inform improvements to the Public Health Associate Program (PHAP) and document evidence of quality and value); and (2) name change to reflect this adjustment from “Public Health Associate Program (PHAP) Alumni Assessment” to “Public Health Associate Program (PHAP): Assessment of Quality and Value.”

The respondent universe is comprised of PHAP host site supervisors and PHAP alumni. CDC will administer both surveys electronically and provide a link to the survey Web sites in the email invitation. CDC will deploy the PHAP Host Site Supervisor survey every year to all active PHAP host site supervisors. The total estimated burden is 20 minutes per respondent per survey.

CDC will administer the PHAP Alumni Survey at three different time points (1 year post-graduation, 3 years post-graduation, and 5 years post-graduation) to PHAP alumni. Assessment questions will remain consistent at each administration (i.e., 1 year, 3 years, or 5 years post-PHAP graduation). However, CDC will update the language for each survey administration to reflect the appropriate time period. The total estimated burden is 8 minutes per respondent per survey. The total annualized estimated burden is 213 hours. There are no costs to respondents except their time.

Estimated Annualized Burden Hours
Type of respondents | Form name | Number of respondents | Number of responses per respondent | Average burden per response (in hours) | Total burden (in hours)
PHAP Host Site Supervisors | PHAP Host Site Supervisor Survey | 400 | 1 | 20/60 | 133
PHAP Alumni | PHAP Alumni Survey | 600 | 1 | 8/60 | 80
Total |  |  |  |  | 213

Leroy A. Richardson,
Chief, Information Collection Review Office, Office of Scientific Integrity, Office of the Associate Director for Science, Office of the Director, Centers for Disease Control and Prevention.

[FR Doc. 2017-21753 Filed 10-6-17; 8:45 am]

BILLING CODE 4163-18-P